DEPARTMENT OF JUSTICE

Antitrust Division

Notice Pursuant to the National Cooperative Research and Production Act of 1993—Appraisal Institute

Notice is hereby given that, on September 7, 2004, pursuant to section 6(a) of the National Cooperative Research and Production Act of 1993, 15 U.S.C. 4301 et seq. (“the Act”), the Appraisal Institute (“AI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Appraisal Institute, Chicago, IL. The nature and scope of AI's standards development activities are: to establish, maintain and publicize minimum requirements for AI membership and confer appropriate designations to properly qualified appraisers; to formulate and maintain a Code of Professional Ethics and Standards of Professional Practice for the real estate profession; to identify the body of knowledge in which the appraisal profession operates; and to establish, maintain and publicize educational standards for members.

Dorothy B. Fountain,
Deputy Director of Operations Antitrust Division.

[FR Doc. 04-23520 Filed 10-20-04; 8:45 am]

BILLING CODE 4410-11-M